ENVIRONMENTAL PROTECTION AGENCY

[EPA-HQ-OPP-2009-0191; FRL-8437-7]

Organic Arsenicals; Product Cancellation Order and Amendments to Terminate Uses

AGENCY: Environmental Protection Agency (EPA).

ACTION: Notice.

SUMMARY: This notice announces EPA's order for the cancellations and amendments to terminate uses, voluntarily requested by the registrants and accepted by the Agency, of products containing the pesticide organic arsenicals, pursuant to section 6(f)(1) of the Federal Insecticide, Fungicide, and Rodenticide Act (FIFRA), as amended. This cancellation order follows a July 8, 2009 Federal Register Notice of Receipt of Requests from the organic arsenical registrants to voluntarily cancel or amend to terminate uses of their organic arsenical product registrations.

DATES: The cancellations are effective September 30, 2009.

FOR FURTHER INFORMATION CONTACT: Tom Myers, Pesticide Re-evaluation Division (7508P), Office of Pesticide Programs, Environmental Protection Agency, 1200 Pennsylvania Ave., NW., Washington, DC 20460-0001; telephone number: (703) 308-8589; fax number: (703) 308-8005; e-mail address: myers.tom@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2009-0191. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

The organic arsenicals include the pesticides monosodium methanearsonate (MSMA), disodium methanearsonate (DSMA), calcium acid methanearsonate (CAMA), and cacodylic acid and its sodium salt. The requests terminate the following uses of MSMA: Residential; forestry; non-bearing fruit and nuts; citrus, bearing and non-bearing; bluegrass, fescue and ryegrass grown for seed; drainage ditch banks; railroad, pipeline, and utility rights of way; fence rows; storage yards; and similar non-crop areas. In addition, the requests terminate all uses of MSMA in Florida except for use on cotton grown in Calhoun, Columbia, Escambia, Gadsden, Hamilton, Holmes, Jackson, Jefferson, Okaloosa, Santa Rosa, Suwannee, Walton, and Washington counties. The requests would not terminate the last MSMA products registered for use in the United States. These requests for voluntary cancellation and amendment of MSMA containing products are the result of an agreement in principle signed by the EPA and the technical registrants of the organic arsenicals on January 16 and February 5, 2009. The registrants have requested voluntary cancellation of all products containing DSMA, CAMA, cacodylic acid and its sodium salt in accordance with the agreement. The requests would terminate the last DSMA, CAMA, and cacodylic acid and its sodium salt products registered for use in the United States. In the July 8, 2009 Notice, EPA indicated that it would issue an order implementing the cancellations and amendments to terminate uses, unless the Agency received substantive comments within the 30-day comment period that would merit its further review of these requests, or unless the registrant(s) withdrew their request(s) within this period. The Agency received comments on the notice but none merited its further review of the requests. Further, the registrants did not withdraw their requests. Accordingly, EPA hereby issues in this notice a cancellation order granting the requested cancellations and amendments to terminate uses. Any distribution, sale, or use of the organic arsenical products subject to this cancellation order is permitted only in accordance with the terms of this order, including any existing stocks provisions.

This notice announces the cancellation and amendments to terminate uses, as requested by registrants, of end-use and manufacturing-use organic arsenical products registered under section 3 of FIFRA. These registrations are listed in sequence by registration number in Tables 1 and 2 of this unit.

Table 1.—Organic Arsenical Product Cancellations
Registration Number | Product Name | Chemical Name
239-2510 | Ortho Crabgrass Killer Formula II | CAMA
239-2572 | Ortho Crabgrass Killer Spray | CAMA
538-10 | Scotts Summer Crabgrass Control | DSMA
538-169 | Scotts Spot Grass and Weed Control | Cacodylic acid
|  | Cacodylic acid, sodium salt
538-178 | Scotts Post Emergent Crabgrass Control | MSMA
769-635 | SMCP MSMA 70W Liquid MSMA Plus Surfactant | MSMA
769-636 | SMCP MSMA 70 Liquid | MSMA
769-637 | SMCP MSMA 6.66 | MSMA
769-664 | X-CEL Veg Kil | Cacodylic acid
|  | Cacodylic acid, sodium salt
769-705 | SMCP MSMA HC 8 Liquid High Concentrate | MSMA
769-916 | Science Grass & Weed Top-Killer | Cacodylic acid
|  | Cacodylic acid, sodium salt
769-975 | Liquid Edger Herbicide | Cacodylic acid
|  | Cacodylic acid, sodium salt
869-175 | Green Light Liquid Edger | Cacodylic acid
|  | Cacodylic acid, sodium salt
869-243 | Green Light MSMA Crabgrass Killer 2 | MSMA
2217-229 | Selective Crabgrass Killer Contains DSMA | DSMA
2217-434 | Crabgrass Killer | DSMA
2217-512 | Nutgrass Killer | MSMA
2217-513 | Crabgrass Killer | MSMA
2217-630 | Gordon's Crabgrass and Nutgrass Killer | MSMA
2217-808 | EH 795 Residential Herbicide | MSMA
|  | 2,4-D dimethylamine salt
|  | Benzoic acid, 3,6-dichloro-2-metyoxy-, compd with N-methylmetharamine (1:1)
|  | Propanoic acid 2-(4-chloro-2-methylphenoxy)-3, (R) compd with N-methylmetharamine (1:1)
2217-815 | EH 1335 Herbicide | MSMA
|  | 2,4-D dimethylamine salt
|  | Benzoic acid, 3,6-dichloro-2-methoxy-, compd with N-methylmetharamine (1:1)
|  | Propanoic acid 2-(4-chloro-2-methylphenoxy)-, (R) compd with N-methylmetharamine (1:1)
2217-830 | EH 1378 Herbicide | MSMA
|  | 2-,4-D dimethylamine salt
|  | Benzoic acid, 3,6-dichloro-2-methoxy-, compd with N-methylmetharamine (1:1)
|  | Propanoic acid 2-(4-chloro-2-methylphenoxy)-, (R) compd with N-methylmetharamine (1:1)
5481-67 | Alco Ho No Mo Liquid | Cacodylic acid
|  | Cacodylic acid, sodium salt
5481-227 | DSMA Liquid Plus Surfactant | DSMA
5481-228 | MSMA 40 Plus Surfactant | MSMA
5481-229 | MSMA 60 Plus Surfactant | MSMA
5481-230 | MSMA 66 Concentrate | MSMA
5481-231 | MSMA 80 Concentrate | MSMA
5887-172 | Improved Crabgrass Killer | MSMA
5905-67 | MSMA Arsonate Liquid | MSMA
5905-GA-82-0011 | MSMA Arsonate Liquid | MSMA
7401-23 | Ferti-Lome Crabgrass and Dallis Grass Killer | MSMA
7401-246 | Hi-Yield Super Decimate+Surfactant | MSMA
7401-366 | Ferti-Lome Improved Bermuda Grass Killer | MSMA
|  | Cacodylic acid, sodium salt
8660-48 | Crabgrass Killer | DSMA
8660-63 | Clean-Up Herbicide | Cacodylic acid
|  | Cacodylic acid, sodium salt
8660-120 | Vertagreen Crabgrass & Weed Killer | MSMA
8660-121 | Greenup Nutgrass & Chickweed Killer | MSMA
9779-86 | Riverside 612 Herbicide | MSMA
9779-96 | Riverside 120 Herbicide | MSMA
9779-128 | DSMA Herbicide | DSMA
9779-155 | Riverside 145 Herbicide | MSMA
9779-170 | Riverside MSMA 4 | MSMA
9779-174 | Riverside DSMA Liquid Plus Surfactant | DSMA
9779-317 | Prometryne+MSMA | MSMA
|  | Prometryn
10088-74 | Lawn and Turf Weed Control | MSMA
19713-45 | Drexel DSMA Liquid | DSMA
19713-113 | Drexel DSMA 81P | DSMA
19713-117 | Drexel Kack Herbicide | Cacodylic acid
|  | Cacodylic acid, sodium salt
19713-141 | Drexel Ezy-Pickin Cotton Defoliant | Cacodylic acid
|  | Cacodylic acid, sodium salt
19713-153 | Kack Plus MSMA Herbicide | MSMA
|  | Cacodylic acid
|  | Cacodylic acid, sodium salt
19713-162 | MSMA 6 Tree Killer | MSMA
19713-276 | IDA, INC. DSMA Slurry | DSMA
19713-311 | Pearson's Easy- Edger and Cleaner | Cacodylic acid
|  | Cacodylic acid, sodium salt
19713-530 | Drexel DSMA 81 Dry Powder | DSMA
19713-532 | DSMA Slurry | DSMA
19713-533 | Super Dal-E-Rad Calar | CAMA
19713-534 | APC Holdings DSMA Liquid | DSMA
19713-535 | APC Holdings DSMA Liquid 4 | DSMA
28293-234 | Unicorn Liquid Edger | Cacodylic acid
|  | Cacodylic acid, sodium salt
28293-361 | Unicorn Weed Edger | Cacodylic acid
|  | Cacodylic acid, sodium salt
33955-510 | Acme Weed Killer Nonselective Herbicide for General Weed Control | Cacodylic acid
|  | Cacodylic acid, sodium salt
33955-553 | Acme Ready-To Use Weed & Grass Killer | Cacodylic acid
|  | Cacodylic acid, sodium salt
42519-4 | Cacodylate 3.25 | Cacodylic acid
|  | Cacodylic acid, sodium salt
42519-8 | Sodium Cacodylate Solution | Cacodylic acid
|  | Cacodylic acid, sodium salt
42519-10 | Leaf-All | Cacodylic acid
|  | Cacodylic acid, sodium salt
46515-1 | Liquid Fence & Grass Edger | Cacodylic acid
|  | Cacodylic acid, sodium salt
46515-12 | Super K-Gro Ready-to-Use Crabgrass Killer | CAMA
59144-20 | Liquid Edger Ready-to-Use | Cacodylic acid
|  | Cacodylic acid, sodium salt
61483-19 | DSMA Liquid | DSMA
61483-20 | Super Arsonate | MSMA
61483-25 | Ansar 529 HC Herbicide | MSMA
61483-40 | DSMA 4 | DSMA
72155-1 | Herbicide 3D RTU | MSMA
|  | 2,4-D dimethylamine salt
|  | Benzoic acid, 3,6-dichloro-2-methoxy-, compd with N-methylmetharamine (1:1)
|  | Propanoic acid 2-(4-chloro-2-methylphenoxy)-, (R) compd with N-methylmetharamine (1:1)
72155-3 | Lawn Herbicide TN Concentrate | MSMA
|  | 2,4-D dimethylamine salt
|  | Benzoic acid, 3,6-dichloro-2-methoxy-, compd with N-methylmetharamine (1:1)
|  | Propanoic acid 2-(4-chloro-2-methylphenoxy)-, (R) compd with N-methylmetharamine (1:1)
72155-5 | Lawn Herbicide 3D Concentrate | MSMA
|  | 2,4-D dimethylamine salt
|  | Benzoic acid, 3,6-dichloro-2-methoxy-, compd with N-methylmetharamine (1:1)
|  | Propanoic acid 2-(4-chloro-2-methylphenoxy)-, (R) compd with N-methylmetharamine (1:1)
72155-6 | Lawn Herbicide 3D-40 Concentrate | MSMA
|  | 2,4-D dimethylamine salt
|  | Benzoic acid, 3,6-dichloro-2-methoxy-, compd with N-methylmetharamine (1:1)
|  | Propanoic acid 2-(4-chloro-2-methylphenoxy)-, (R) compd with N-methylmetharamine (1:1)

Table 2.—Organic Arsenical Product Registrations with Pending Requests for Amendment
Registration Number | Product Name | Chemical name
2217-709 | Quadmec Turf Herbicide | MSMA
|  | 2,4-D dimethylamine salt
|  | Benzoic acid, 3,6-dichloro-2-methoxy-, compd with N-methylmetharamine (1:1)
|  | Propanoic acid 2-(4-chloro-2-ethylphenoxy)-, (R) compd with N-methylmetharamine (1:1)
2217-797 | EH 1143 Herbicide | MSMA
|  | MCPA, dimethylamine salt
|  | Benzoic acid, 3,6-dichloro-2-methoxy-, compd with N-methylmetharamine (1:1)
|  | Propanoic acid 2-(4-chloro-2-ethylphenoxy)-, (R) compd with N-methylmetharamine (1:1)
5905-66 | MSMA Plus | MSMA
5905-162 | Helena Brand MSMA High Concentrate | MSMA
5905-164 | MSMA Plus HC | MSMA
9779-133 | Riverside 120 Herbicide | MSMA
19713-40 | Drexar 530 | MSMA
19713-41 | Drexel MSMA 6.6 | MSMA
19713-42 | MSMA 6 Plus | MSMA
19713-151 | Drexel MSMA 8 | MSMA
19713-267 | IDA, Inc. MSMA 4 Plus | MSMA
19713-269 | IDA, Inc. MSMA 6.6 | MSMA
19713-278 | IDA, Inc. MSMA 6 Plus | MSMA
19713-528 | Diumate | MSMA
|  | Diuron
19713-529 | Drexel MSMA 600 Herbicide | MSMA
19713-531 | Drexel MSMA 660 | MSMA
19713-550 | Drexel MSMA 120 | MSMA
42519-1 | Target 6.6 | MSMA
42519-3 | Target 5 Plus | MSMA
42750-28 | Weed Hoe 120 | MSMA
42750-29 | Weed Hoe 108 | MSMA
61483-13 | Daconate | MSMA
61483-14 | Daconate 6 | MSMA
61483-15 | Bueno-6 | MSMA
61483-17 | Daconate Super Brand | MSMA
61483-18 | Bueno | MSMA
62719-339 | MSMA 6.6 | MSMA
62719-340 | MSMA Plus S | MSMA
62719-343 | MSMA 51% | MSMA

Table 3 of this unit includes the names and addresses of record for all registrants of the products in Table 1 of this unit, in sequence by EPA company number.

Table 3.—Registrants of Cancelled and Amended Organic Arsenical Products
EPA Company no. | Company Name and Address
239 | The Scotts Co., d/b/a/ The Ortho Group P.O. Box 190 Marysville, OH 43040
538 | Scotts Co., The, 14111 Scottslawn Rd Marysville, OH 43041
769 | Value Gardens Supply, LLC d/b/a/ Value Garden Supply P.O. Box 585 Saint Joseph, MO 64502
869 | Valent GI Corp., c/o Valent USA Corp., Agent For: Green Light Co. 1600 Riviera Ave. Suite 200 Walnut Creek, CA 94596
2217 | PBI/Gordon Corp. P.O. Box 014090 Kansas City, MO 64101-0090
5481 | Amvac Chemical Corp., d/b/a/ Amvac, 4695 Macarthur Ct. Suite 1250 Newport Beach, CA 92660-1706
5887 | Value Gardens Supply, LLC d/b/a/ Value Garden Supply P.O. Box 585 Saint Joseph, MO 64502
5905 | Helena Chenical Co. 7664 Moore Rd. Memphis, TN 38120
7401 | Mandava Associates, LLC, Agent for: Voluntary Purchasing Groups, Inc. N. Dallas Pkwy., Suite 200 Plano, TX 75024
8660 | United Industries Corp., d/b/a Sylorr Plant Corp. P.O. Box 142642 St. Louis, MO 63114-0642
9779 | Winfield Solutions, LLC P.O. Box 64589 St. Paul, MN 55164-0589
10088 | Athea Laboratories Inc. P.O. Box 240014 Milwaukee, WI 53224
19713 | Drexel Chemical Co. P.O. Box 13327 Memphis, TN 38113-0327
28293 | Phaeton Corp., d/b/a/ Unicorn Laboratories P.O. Box 290 Madison, GA 30650
33955 | PBI/Gordon Corp. P.O. Box 014090 Kansas City, MO 64101-0090
42519 | Luxemborg-Pamol, Inc. 5100 Poplar Ave. Suite 2700 Memphis, TN 38137
42750 | Albaugh Inc. 1525 NE 36th Street Ankeny, IA 50021
46515 | Celex, Division of United Industries Corp. P.O. Box 142642 St. Louis, MO 63114-0642
59144 | RegWest Company, LLC, Agent for: Gro Tec, Inc. 30856 Rocky Rd. Greely, CO 80631-9375
61483 | KMG-Bernuth, Inc. 9555 W. Sam Houston Pkwy South, Suite 600 Houston, TX 77099
62719 | Dow Agrosciences LLC 9330 Zionsville Rd 308/2e Indianapolis, IN 46268-1054
72155 | Bayer Advanced, P.O. Box 12014 2 TW Alexander Dr. Research Triangle Park, NC 27709

III. Summary of Public Comments Received and Agency Response to Comments

Comments were received on the dates for disposition of existing stocks of products containing the organic arsenicals. Based on these comments, some of the dates have been amended.

IV. Cancellation Order

Pursuant to FIFRA section 6(f), EPA hereby approves the requested cancellations and amendments to terminate uses of organic arsenical registrations identified in Tables 1 and 2 of Unit II. Accordingly, the Agency orders that the organic arsenical product registrations identified in Tables 1 and 2 of Unit II. are hereby canceled and amended to terminate the affected uses. Any distribution, sale, or use of existing stocks of the products identified in Tables 1 and 2 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

After December 31, 2009, registrants are prohibited from selling or distributing existing stocks of products containing MSMA labeled for all uses, except cotton, sod farms, golf courses, and highway rights-of-way. Also, after December 31, 2009 registrants are prohibited from selling or distributing existing stocks of products containing DSMA, CAMA, cacodylic acid and its sodium salt.

After December 31, 2010, persons other than registrants are prohibited from selling or distributing existing stocks of products containing MSMA labeled for all uses, except cotton, sod farms, golf courses, and highway rights-of-way, and products containing DSMA, CAMA, and/or cacodylic acid and its sodium salt.

After December 31, 2010, existing stocks of products containing MSMA labeled for all uses, except cotton, sod farms, golf courses, and highway rights-of-way and products containing DSMA, CAMA, cacodylic acid and its sodium salt, already in the hands of users can be used legally until they are exhausted, provided that such use complies with the EPA-approved label and labeling of the affected product.

After December 31, 2012, registrants are prohibited from selling or distributing existing stocks of products containing MSMA labeled for use on sod farms, golf courses, and highway rights-of-way.

After June 30, 2013, persons other than registrants are prohibited from selling or distributing existing stocks of products containing MSMA labeled for use on sod farms, golf courses, and highway rights-of-way. After December 31, 2013, use of products containing MSMA labeled for all uses, except cotton, is prohibited.

List of Subjects

Environmental protection, Pesticides and pests.

Dated: September 21, 2009.
Richard P. Keigwin, Jr.,
Director, Pesticide Re-evaluation Division, Office of Pesticide Programs.

FR Doc. E9-23319 Filed 9-29-09; 8:45 am]

BILLING CODE6560-50-S